DEPARTMENT OF LABOR

Employment and Training Administration

[TA-W-37,899]

Hannah Hardy Inc., New York, NY; Notice of Termination of Investigation

Pursuant to Section 221 of the Trade Act of 1974, an investigation was initiated on July 24, 2000, in response to a petition filed on the same date on behalf of workers at Hannah Hardy, Inc., New York, New York.

The Department of Labor has been unable to locate an official of the company to provide the information necessary to render a trade adjustment assistance determination. Consequently, the Department of Labor cannot conduct an investigation to make a determination as to whether the workers are eligible for adjustment assistance benefits under the Trade Act of 1974. Therefore, further investigation in this matter would serve no purpose, and the investigation has been terminated.

Signed at Washington, DC, this 20th day of September, 2000.
Edward A. Tomchick,
Director, Division of Trade Adjustment Assistance.

[FR Doc. 00-25609 Filed 10-4-00; 8:45 am]

BILLING CODE 4510-30-M